DEPARTMENT OF HEALTH AND HUMAN SERVICES

Centers for Medicare & Medicaid Services

[Document Identifier: CMS-10731, CMS-10825 and CMS-10439]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by December 27, 2022.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10731 Generic Clearance for CMS and Medicare Administrative Contractor (MAC) Generic Customer Experience

CMS-10825 List of Screening Instruments for Housing Stability, Food Security, and Transportation Questions on Health Risk Assessments

CMS-10439 Data Collection to Support Eligibility Determinations for Small Businesses in the Small Business Health Options Program

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: New collection (Request for a new OMB control number); Title of Information Collection: Generic Clearance for CMS and Medicare Administrative Contractor (MAC) Generic Customer Experience; Use: The Centers for Medicare & Medicaid Services (CMS) is requesting approval to collect generic feedback from respondents including, but not limited to Medicare providers, Medicare suppliers, provider or supplier staff, billers, credentialing agencies, researchers, clearinghouses, consultants, and attorneys. These surveys will give us insights into customers' perceptions and opinions and will be used to improve customer experiences and communications materials; however, the results will not be generalized to the population of study.

Improving agency programs requires ongoing systemic review of service delivery and program operations compared to defined standards. We'll use multiple methods to collect, analyze, and interpret information from this generic clearance to find the strengths and weaknesses of our current services. We'll use this feedback to inform process improvements or maintain service quality offered to providers and stakeholders. Form Number: CMS-10731 (OMB control number: 0938-New); Frequency: Occasionally; Affected Public: Private sector (business or other for-profits); Number of Respondents: 997,100; Total Annual Responses: 997,100; Total Annual Hours: 50,000. (For policy questions regarding this collection contact Alyssa Schaub-Rimel at 410-786-4660.)

2. Type of Information Collection Request: New collection (Request for a new OMB control number); Title of Information Collection: List of Screening Instruments for Housing Stability, Food Security, and Transportation Questions on Health Risk Assessments; Use: This information collection request is for the new regulation at 42 CFR 422.101(f)(1)(i) requiring that all MA SNP health risk assessments (HRAs) include at least one question from a list of screening instruments specified by CMS in sub-regulatory guidance on each of three domains (housing stability, food security, and access to transportation) beginning in CY 2024. This new requirement will help better identify the risk factors that may inhibit enrollees from accessing care and achieving optimal health outcomes and independence and enable MA SNPs to take these risk factors into account in enrollee individualized care plans. This information collection request provides the list of CMS-specified Social Determinants of Health (SDOH) screening instruments available for SNPs to meet the new requirement.

We note that the scope of the information collection currently approved under OMB control number 0938-1422 (CMS-10799) listed in the January 2022 proposed rule was too broad to include a discussion of the new regulation at 42 CFR 422.101(f)(1)(i) and the information collection requirements contained therein. Also, we did not finalize our proposal to require SNPs to use a standardized set of questions based on comments received from on the January 2022 proposed rule titled “Medicare Program; Contract Year 2023 Policy and Technical Changes to the Medicare Advantage and Medicare Prescription Drug Benefit Programs” (87 FR 1842). Therefore, in accordance with the implementing regulations of the PRA at 5 CFR 1320, we did not include this information collection in OMB control number 0938-1422 (CMS-10799) and are conducting a standard PRA clearance process to obtain public comment on the list of SDOH screening instruments described in the May 2022 final rule. Form Number: CMS-10731 (OMB control number: 0938-New); Frequency: Occasionally; Affected Public: Private sector (business or other for-profits); Number of Respondents: 174; Total Annual Responses: 174; Total Annual Hours: 167. (For policy questions regarding this collection contact Michelle Conway at 202-260-7752.)

3. Type of Information Collection Request: Extension without change of a currently approved collection; Title of Information Collection: Data Collection to Support Eligibility Determinations for Small Businesses in the Small Business Health Options Program; Use: On March 23, 2010, the President signed into law H.R. 3590, the Patient Protection and Affordable Care Act, Public Law 111-148, as amended by the Health Care and Education Reconciliation Act of 2010, Public Law 111-152. The Patient Protection and Affordable Care Act (PPACA) expands access to health insurance coverage through improvements to the Medicaid and Children's Health Insurance (CHIP) programs, the establishment of Affordable Insurance Exchanges (Exchanges), and the coordination between Medicaid, CHIP, and Exchanges. Small business employers may participate in and provide health coverage through the Small Business Health Options Program (SHOP), so long as the small business employer obtains a positive eligibility determination from SHOP. Employers will work with SHOP-registered agents/brokers or Issuers offering Qualified Health Plans (QHPs) and Qualified Dental Plans (SADPs), to enroll in SHOP coverage and to select coverage options to offer their employees. SHOP Exchanges became operational on October 1, 2013.

HHS has developed a single, streamlined form that employers use to obtain a SHOP eligibility determination, which is included as an appendix to this Information Collection Request. 45 CFR 155.731 provides more detail about this “single employer application,” which is used to determine employer eligibility. Since publication of the last package, no updates have been made in regulation concerning what information should be collected on the single employer application to determine employer eligibility under 45 CFR 155.731. When an employer completes the SHOP Eligibility Determination Form, the form and its results are retained by SHOP for future use, if needed (e.g., reconciliation with issuer records, SHOP employer appeals, etc.). Form Number: CMS-10439 (OMB control number 0938-1193); Frequency: Annually; Affected Public: Private Sector (business or other for-profits, not-for-profit institutions); Number of Respondents: 2,100; Number of Responses: 2,100; Total Annual Hours: 336. (For questions regarding this collection contact Elliot Klein at 410-786-0415).

Dated: October 25, 2022.
William N. Parham, III,
Director, Paperwork Reduction Staff, Office of Strategic Operations and Regulatory Affairs.

[FR Doc. 2022-23553 Filed 10-27-22; 8:45 am]

BILLING CODE 4120-01-P